FEDERAL MARITIME COMMISSION

Sunshine Act Meeting

TIME AND DATE: April 07, 2021; 10:00 a.m.

PLACE: This meeting will be held by video-conference only.

STATUS: This meeting will be closed to the public.

MATTERS TO BE CONSIDERED:

1. Staff Briefing on U.S. Economic Conditions and Ocean Carrier Alliances

2. Fact Finding 29: International Ocean Transportation Supply Chain Engagement

CONTACT PERSON FOR MORE INFORMATION: JoAnne O'Bryant, Program Analyst, (202) 523-5725.

JoAnne O'Bryant,
Program Analyst.

[FR Doc. 2021-06957 Filed 3-31-21; 4:15 pm]

BILLING CODE 6730-02-P